GENERAL SERVICES ADMINISTRATION

[Notice-ID-2023-01; Docket No. 2023-0002; Sequence No. 2]

Privacy Act of 1974; System of Records

AGENCY: General Services Administration (GSA).

ACTION: Notice of a modified system of records.

SUMMARY: This system covers current or former employees who file grievances and includes records related to the grievance process.

DATES: Submit comments on or before April 13, 2023. The new and/or significantly modified routine uses will be applicable on April 13, 2023.

ADDRESSES: You may submit comments by any of the following methods:

• By email to the GSA Privacy Officer: gsa.privacyact@gsa.gov.

• By mail to: Privacy Office (IDE), General Services Administration, 1800 F Street NW, Washington, DC 20405.

FOR FURTHER INFORMATION CONTACT: Call or email the GSA Chief Privacy Officer, Richard Speidel. Telephone 202-969-5830; email gsa.privacyact@gsa.gov.

SUPPLEMENTARY INFORMATION: GSA proposes to revise a system of records subject to the Privacy Act of 1974, 5 U.S.C. 552a. GSA is modifying the notice to update the categories of records in the system, policies within “POLICIES AND PRACTICES FOR RETENTION AND DISPOSAL OF RECORDS”, safeguards within “ADMINISTRATIVE, TECHNICAL, AND PHYSICAL SAFEGUARDS”, system location (Under “System Location”), and the manager's address. The modification is to reflect modern records retention practices and other clerical changes.

SYSTEM NAME AND NUMBER:

GSA/HRO-10—Grievance Records.

SYSTEM CLASSIFICATION:

Unclassified.

SYSTEM LOCATION:

The system is hosted in secure government owned data-centers in the continental United States. Also, the records are stored electronically but may also be located in the Office of Human Resources Management at the GSA or office in GSA in which grievances were filed.

SYSTEM MANAGER(S):

The Director of Workforce Relations Division (CSE), Office of Human Capital Strategy (CS), 1800 F Street NW, Washington, DC 20405. Email address is nlrt@gsa.gov.

AUTHORITY FOR MAINTENANCE OF THE SYSTEM:

5 U.S.C. chapter 75; E.O. 10577, as amended; E.O. 11491, as amended.

PURPOSE(S) OF THE SYSTEM:

The purpose of this system is to document employee grievances, including statements of witnesses, reports of interviews and hearings, examiner's findings and recommendations, a copy of the original and final decision, and related correspondence and exhibits.

CATEGORIES OF INDIVIDUALS COVERED BY THE SYSTEM:

Current or former employees who have filed grievances with GSA under 5 CFR part 771 or a negotiated procedure.

CATEGORIES OF RECORDS IN THE SYSTEM:

The system contains:

• Employee Full Name

Grievances filed by agency employees full name, internal grievance and arbitration systems files that are established through negotiations with recognized labor unions.

RECORD SOURCE CATEGORIES:

Officials who manage records pertaining to employees who have filed grievances with GSA under part 771 of the Office of Personnel Management (OPM) Regulations (5 CFR part 771) or a negotiated procedure.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside GSA as a routine use pursuant to 5 U.S.C. 552a(b)(3) as follows:

a. In any legal proceeding, where pertinent, to which GSA is a party before a court or administrative body.

b. To disclose information to any source from which additional information is requested in the course of processing a grievance, to the extent necessary to identify the individual, inform the source of the purpose(s) of the request, and to identify the type of information requested.

c. To authorized officials engaged in investigating or settling a grievance, complaint, or appeal filed by an individual who is the subject of the record.

d. To a Federal agency in connection with the hiring or retention of an employee; the issuance of a security clearance; the reporting of an investigation; the letting of a contract; or the issuance of a grant, license, or other benefit to the extent that the information is relevant and necessary to a decision.

e. By GSA or the Office of Personnel Management in the production of summary description statistics and analytical studies in support of the function for which the records are collected and maintained, or for related work force studies. While published statistics do not contain individual identifiers, in some instances the selection of elements of data included in the study may be structured in such a way as to make the data individually identifiable by inference.

f. To officials of the Merit Systems Protection Board, including the Office of Special Counsel; the Federal Labor Relations

Authority and its General Counsel, or Equal Employment Opportunity Commission when requested in performance of their authorized duties.

g. In response to a request for a discovery or for appearance of a witness, information that is relevant to the subject matter involved in a pending judicial or administrative proceeding.

h. To provide information to officials of labor organizations reorganized under the Civil Service Reform Act when relevant and necessary to their duties of exclusive representation concerning personnel policies, practices, and matters affecting working conditions.

i. To a Member of Congress or staff on behalf of and at the request of the individual who is the subject of the record.

j. To an expert, consultant, or contractor of GSA in the performance of a Federal duty to which the information is relevant.

k. To the National Archives and Records Administration (NARA) for records management purposes.

l. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORAGE OF RECORDS:

The records are maintained electronically.

POLICIES AND PRACTICES FOR RETRIEVAL OF RECORDS:

Records reside in the HR Service Center where the grievance is processed. The records are filed by employee name, and may be retrieved. The records are filed numerically and/or alphabetically by name.

POLICIES AND PRACTICES FOR RETENTION AND DISPOSAL OF RECORDS:

Per NARA approved records retention schedule DAA-GRS-2018-0002-0006, these records are disposed of no sooner than 4 years but no later than 7 years after the case is closed or final settlement on appeal, as appropriate. Records will be disposed via electronic deletion of digital records.

ADMINISTRATIVE, TECHNICAL, AND PHYSICAL SAFEGUARDS:

Records are maintained electronically.

RECORD ACCESS PROCEDURES:

Requests from current employees to review information about themselves should be directed to the HR Service Center where the action was processed. For the identification required, see 41 CFR part 105-64.

CONTESTING RECORD PROCEDURES:

Review of a request from an individual seeking to amend a grievance record that has been the subject of a judicial or quasi-the judicial process is limited in scope. The only review permitted is determining if the record accurately documents GSA's ruling on the case and does not include a review of the merits of an action, determination, or finding. An individual who wishes to amend his or her record to correct factual errors should contact the GSA Office of Human Resources Management. The individual must also follow the GSA Privacy Act procedures on amending records (CPO 1878.1).

NOTIFICATION PROCEDURES:

Current employees may obtain information about whether they are a part of the system by contacting the HR Service Center where the action was processed.

EXEMPTIONS PROMULGATED FOR THE SYSTEM:

Under 5 U.S.C. 552a(k)(2), this system of records is exempt from subsections (c)(3); (d); (e)(1); (e)(4)(G), (e)(4)(H), (e)(4)(I); and (f) of the Act when the records are compiled for a law enforcement purpose and the record will not be used to deny a right, benefit, or privilege from the subject of the record.

HISTORY:

[73 FR 22393, May 27, 2008].

Richard Speidel,
Chief Privacy Officer, Office of the Deputy Chief Information Officer, General Services Administration.

[FR Doc. 2023-05133 Filed 3-13-23; 8:45 am]

BILLING CODE 6820-34-P